MILLENNIUM CHALLENGE CORPORATION

[MCC FR 12-03]

Sunshine Act Meeting; Millennium Challenge Corporation Board of Directors; March 22, 2012

AGENCY: Millennium Challenge Corporation.

TIME AND DATE: 3 p.m. to 5 p.m., Wednesday, March 22, 2012.

PLACE: Department of State, 2201 C Street NW., Washington, DC 20520.

FOR FURTHER INFORMATION CONTACT: Information on the meeting may be obtained from Melvin F. Williams, Jr., Vice President, General Counsel and Corporate Secretary via email at corporatesecretary@mcc.gov or by telephone at (202) 521-3600.

STATUS: Meeting will be closed to the public.

MATTERS TO BE CONSIDERED: The Board of Directors (the “Board”) of the Millennium Challenge Corporation (“MCC”) will hold a meeting to discuss Candidate Country Report for FY2012, the Niger Threshold Program, the Zambia Compact and an update on Malawi. The agenda items are expected to involve the consideration of classified information and the meeting will be closed to the public.

Dated: March 7, 2012.
Melvin F. Williams, Jr.,
VP/General Counsel and Corporate Secretary, Millennium Challenge Corporation.

[FR Doc. 2012-5947 Filed 3-9-12; 11:15 am]

BILLING CODE 9211-03-P